DEPARTMENT OF COMMERCE

International Trade Administration

[Application No. 03-4A008]

Export Trade Certificate of Review

AGENCY: International Trade Administration, Commerce.

ACTION: Notice of issuance of an amended export trade certificate.

SUMMARY: The Secretary of Commerce, through the Office of Trade and Economic Analysis (“OTEA”), issued an amended Export Trade Certificate of Review to California Pistachio Export Council, LLC (“CPEC”), application no. 03-4A008, on July 22, 2022.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Conduct

1. CPEC amended its Certificate as follows: added the following entity as a Member of the Certificate within the meaning of section 325.2(l) of the Regulations (15 CFR 325.2(l)):

a. Meridian Nut Growers, LLC

2. The following entities have been removed as Members of the Certificate:

a. Arizona Nut Company, LLC

b. ARO Pistachios, Inc.

c. Horizon Growers Cooperative, Inc.

d. Nichols Pistachio

List of Members, as amended:

1. Keenan Farms, Inc.

2. Meridian Nut Growers, LLC

3. Monarch Nut Company

4. Primex Farms, LLC

5. Setton Pistachio of Terra Bella, Inc.

6. Zymex Industries, Inc.

The effective date of the amended certificate is April 22, 2022, the date on which CPEC's application to amend was deemed submitted.

Dated: July 28, 2022.
Joseph Flynn,
Director, Office of Trade and Economic Analysis, International Trade Administration, U.S. Department of Commerce.

[FR Doc. 2022-16529 Filed 8-1-22; 8:45 am]

BILLING CODE 3510-DR-P